DEPARTMENT OF TRANSPORTATION

Coast Guard

33 CFR Part 165

[CGD1-00-123]

RIN 2115-AA97

Safety Zone: Chelsea Street Bridge, Chelsea River, Chelsea, MA

AGENCY: Coast Guard, DOT.

ACTION: Temporary final rule.

SUMMARY: The Coast Guard is establishing a temporary safety zone on the Chelsea River surrounding the Chelsea Street Bridge. The safety zone temporarily closes all waters of the Chelsea River 100 yards upstream and 100 yards downstream from the centerline of the Chelsea Street Bridge. The safety zone is needed to protect vessels from the hazards posed during repairs to the bridge fender system.

EFFECTIVE DATES: This rule is effective from Tuesday, May 30, 2000, through Saturday, June 3, 2000, between 9 p.m. and 7:30 a.m. and from Monday, June 5, 2000 through Saturday, June 10, 2000 between 6 p.m. and 5 a.m.

ADDRESSES: Comments and material received from the public, as well as documents indicated in this preamble as being available in the docket, are part of docket CGD1-00-123 and are available for inspection or copying at Marine Safety Office Boston, 455 Commercial Street, Boston, MA between the hours of 8 a.m. and 3 p.m., Monday through Friday, except Federal holidays.

FOR FURTHER INFORMATION CONTACT: Lieutenant Brian Downey, Waterways Management Division, Coast Guard Marine Safety Office Boston, (617) 223-3000.

SUPPLEMENTARY INFORMATION:

Regulatory Information

As authorized by 5 U.S.C. 553, the Coast Guard did not publish a Notice of Proposed Rulemaking (NPRM) for this regulation. Under 5 U.S.C. 553(b)(B), the Coast Guard finds that good cause exists for not publishing a NPRM and for making this rule effective less than 30 days after publication in the Federal Register. Any delay in implementing this rule would be contrary to the public interest since immediate action is needed to close a portion of the Chelsea River and protect the maritime public from the hazards associated with bridge repair activities.

Background and Purpose

The Chelsea Street Bridge over the Chelsea River, Chelsea, MA, requires repairs. During the repair evolution, barges will be moored in the center of the channel. Barge placement requires the closure of the waterway to ensure vessel safety during repairs to the bridge fender system.

This regulation establishes a safety zone in all waters of the Chelsea River 100 yards upstream and 100 yards downstream from the centerline of the Chelsea Street Bridge. This safety zone prohibits entry into or movement within this portion of the Chelsea River. In an effort to maximize commerce during the channel closures, waterway user input was solicited at a March 9, 2000 meeting hosted by Marine Safety Office Boston. The meeting was attended by 13 stakeholders. The nature of the repair work to be conducted requires low tide conditions. The Coast Guard was able to balance this need with community demands through the aforementioned open forum, which arrived at a group consensus between marine operators, the bridge owner, construction contractor, and harbor pilots. A current safety zone under 33 CFR 165.120 closes this same channel portion to vessels over 630.5 feet between sunset and sunrise. Therefore, the group, based on the contractor's recommendation, agreed upon the nightly closures. The duration of the safety zone will be from Tuesday, May 30, 2000 through Saturday, June 3, 2000, between 9 p.m. and 7:30 a.m. and from Monday, June 5, 2000 through Saturday, June 10, 2000 between 6 p.m. and 5 a.m. The Coast Guard will make Marine Safety Information Broadcasts informing mariners of this safety zone.

Regulatory Evaluation

This final rule is not a significant regulatory action under section 3(f) of Executive Order 12866 and does not require an assessment of potential costs and benefits under section 6(a)(3) of that Order. The Office of Management and Budget has not reviewed it under that Order. It is not significant under the regulatory policies and procedures of the Department of Transportation (DOT)(44 FR 11040; February 26, 1979). The Coast Guard expects the economic impact of this rule to be so minimal that a full regulatory evaluation under paragraph 10e of the regulatory policies and procedures of DOT is unnecessary. This finding is based on the limited duration of the safety zone and limited commercial traffic expected in the area during the effective periods. Moreover, commercial operators will receive advance channel closure notification through Port Operators' Group meetings, Safety Marine Information Broadcasts and industry dissemination. The early notification will permit mariners ample time to alter voyage plans.

Small Entities

Under the Regulatory Flexibility Act (5 U.S.C. 601-612), the Coast Guard considered whether this rule would have a significant economic impact on a substantial number of small entities. “Small entities” may include (1) small businesses and not-for-profit organizations that are independently owned and operated and are not dominant in their fields and (2) governmental jurisdictions with populations of less than 50,000.

The Coast Guard certifies under section 605(b) of the Regulatory Flexibility Act (5 U.S.C. 601 et seq.) that this rule will not have a significant impact on a substantial number of small entities.

This rule will affect the following entities, some of which may be small entities: the owners or operators of vessels intending to transit or anchor in a portion of the Chelsea River from May 30, 2000 through June 3, 2000 between 9 p.m. and 7:30 a.m. and from June 5 through 10, 2000 between 6 p.m. and 5 a.m.

This safety zone will not have a significant economic impact on a substantial number of small entities for the following reasons: The Coast Guard will issue maritime advisories before the effective period that will be widely available to users of the river; and the closures are based on waterway user input.

Assistance for Small Entities

Under section 213(a) of the Small Business Regulatory Enforcement Fairness Act of 1996 (Pub. L. 104-121), the Coast Guard offered to assist small entities in understanding this final rule so that they could better evaluate its effects on them and participate in the rulemaking process. The Coast Guard coordinated a March 9, 2000 meeting of Chelsea River users to gain input and feedback about the channel closures. The group agreed upon the schedule provided.

Small businesses may send comments on the actions of Federal employees who enforce, or otherwise determine compliance with, Federal regulations to the Small Business and Agriculture Regulatory Enforcement Ombudsman and the Regional Small Business Regulatory Fairness Boards.

The Ombudsman evaluates these actions annually and rates each agency's responsiveness to small business. If you wish to comment on actions by employees of the Coast Guard, call 1-888-REG-FAIR (1-888-734-3247).

Collection of Information

This proposal calls for no new collection of information under the Paperwork Reduction Act of 1995 (44 U.S.C. 3501-3520).

Federalism

The Coast Guard has analyzed this rule under Executive Order 13132 and has determined that this rule does not have federalism implications under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this final rule and concluded that under Figure 2-1, paragraph 34(g), of Commandant Instruction M16475.1C, this rule is categorically excluded from further environmental documentation. A Categorical Exclusion Determination is available in the docket for inspection or copying where indicated under ADDRESSES.

List of Subjects in 33 CFR Part 165

Harbors, Marine safety, Navigation (water), Reporting and record keeping requirements, Security measures, Waterways.

For reasons discussed in the preamble, the Coast Guard amends 33 CFR Part 165 as follows:

PART 165— REGULATED NAVIGATION AREAS AND LIMITED ACCESS AREAS

1. The authority citation for part 165 continues to read as follows:

Authority: 33 U.S.C. 1231; 50 U.S.C. 191; 33 CFR 1.05-1(g), 6.04-1, 6.04-6, 160.5; 49 CFR 1.46.

2. Add temporary § 165.T00-123 to read as follows:

§ 165.T00-123 Safety Zone: Chelsea Street Bridge, Chelsea River, Chelsea, MA

(a) Location. The following area is a safety zone: All waters of the Chelsea River 100 yards upstream and 100 yards downstream from the centerline of the Chelsea Street Bridge.

(b) Effective Dates. This rule is effective from Tuesday, May 30, 2000 through Saturday, June 3, 2000 between 9 p.m. and 7:30 a.m. and Monday, June 5, 2000 through Saturday, June 10, 2000 between 6 p.m. and 5 a.m.

(c) Regulations. (1) Entry into or movement within this zone is prohibited unless authorized by the Captain of the Port, (COTP) Boston.

(2) All persons and vessels shall comply with the instructions of the COTP or the designated on-scene U.S. Coast Guard patrol personnel. U.S. Coast Guard patrol personnel include commissioned, warrant, and petty officers of the U.S. Coast Guard.

(3) The general regulations covering safety zones in § 165.23 apply.

Dated: May 5, 2000.
J.R. Whitehead,
Captain, Coast Guard. Captain of the Port, Boston, Massachusetts.

[FR Doc. 00-12148 Filed 5-12-00; 8:45 am]

BILLING CODE 4910-15-P